FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Government-Administered, General-Use Prepaid Card Survey (FR 3063; OMB No. 7100-0343).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Government-Administered, General-Use Prepaid Card Survey.

Collection identifier: FR 3063.

OMB control number: 7100-0343.

General description of collection: The FR 3063 survey collects data from issuers of government-administered, general-use prepaid cards, including information on the prepaid card program, the number of cards outstanding, card funding, purchase transactions, interchange fees, and cardholder fees. The FR 3063 survey is mandatory. The Board uses data from the FR 3063 survey to support an annual report to Congress on the prevalence of use of general-use prepaid cards in federal, state, and local government-administered payment programs and on the interchange and cardholder fees charged with respect to the use of such cards.

Frequency: Annually.

Respondents: Issuers of Government-Administered, General-Use Prepaid Cards.

Total estimated number of respondents: 22.

Total estimated annual burden hours: 220.¹

¹ More detailed information regarding this collection, including more detailed burden estimates, can be found in the OMB Supporting Statement posted at https://www.federalreserve.gov/apps/reportingforms/home/review. On the page displayed at the link, you can find the OMB Supporting Statement by referencing the collection identifier, FR 3063.

Current actions: On November 14, 2023, the Board published a notice in the Federal Register (88 FR 78023) requesting public comment for 60 days on the extension, without revision, of the FR 3063. The comment period for this notice expired on January 16, 2024. The Board did not receive any comments.

Board of Governors of the Federal Reserve System.
Ann Misback,
Secretary of the Board.

[FR Doc. 2024-07092 Filed 4-2-24; 8:45 am]

BILLING CODE 6210-01-P